DEPARTMENT OF ENERGY

Federal Energy Regulatory Commission

[Docket No. RP02-361-000]

Gulfstream Natural Gas System, L.L.C.; Notice of Proposed Changes in FERC Gas Tariff

June 12, 2002.

Take notice that on June 3, 2002, Gulfstream Natural Gas System. L.L.C. (Gulfsteam) tendered for filing as part of its FERC Gas Tariff, Original Volume No. 1, the following tariff sheets, with an effective date of June 1, 2002:

First Revised Sheet No. 8

Original Sheet No. 8A

Original Sheet No. 8B

Gulfstream states that it is filing the above tariff sheets to implement five negotiated rate agreements pursuant to Rate Schedule FTS and Section 31 of the General Terms and Conditions of Gulfstream's FERC Gas Tariff. Gulfstream states that it is also filing related letter agreements with certain of its initial firm shippers.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-15416 Filed 6-18-02; 8:45 am]

BILLING CODE 6717-01-P